DEPARTMENT OF ENERGY

Federal Energy Regulatory Commission

Combined Notice of Filings #2

Take notice that the Commission received the following electric rate filings:

Docket Numbers: ER12-2205-010; ER10-1821-015; ER12-2159-009; ER12-919-008.

Applicants: Meadow Creek Project Company LLC, Goshen Phase II LLC, Canadian Hills Wind, LLC, Rockland Wind Farm LLC.

Description: Notice of Change in Status of Meadow Creek Project Company LLC, et al.

Filed Date: 7/20/17.

Accession Number: 20170720-5130.

Comments Due: 5 p.m. ET 8/10/17.

Docket Numbers: ER17-814-001; ER17-816-001; ER17-815-001; ER10-2543-004; ER10-2606-012.

Applicants: Verso Energy Services LLC, Verso Luke LLC, Verso Escanaba LLC, Verso Androscoggin LLC, Consolidated Water Power Company.

Description: Notice of Change in Status of the Verso MBR Sellers.

Filed Date: 7/20/17.

Accession Number: 20170720-5077.

Comments Due: 5 p.m. ET 8/10/17.

Docket Numbers: ER17-1778-001.

Applicants: HD Project One LLC.

Description: Tariff Amendment: MBRA Application Amendment to be effective 7/21/2017.

Filed Date: 7/20/17.

Accession Number: 20170720-5040.

Comments Due: 5 p.m. ET 8/10/17.

Docket Numbers: ER17-2044-001.

Applicants: Southwest Power Pool, Inc.

Description: Tariff Amendment: 3215R2 People's Electric Cooperative NITSA NOA to be effective 6/1/2017.

Filed Date: 7/20/17.

Accession Number: 20170720-5062.

Comments Due: 5 p.m. ET 8/10/17.

Docket Numbers: ER17-2114-000.

Applicants: The Dayton Power and Light Company, Ohio Power Company, PJM Interconnection, L.L.C.

Description: § 205(d) Rate Filing: Interconnection Agreement SA No. 1461 between Dayton and Ohio Power to be effective 7/21/2017.

Filed Date: 7/20/17.

Accession Number: 20170720-5059.

Comments Due: 5 p.m. ET 8/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2017.
Kimberly D. Bose,
Secretary.

[FR Doc. 2017-15645 Filed 7-25-17; 8:45 am]

BILLING CODE 6717-01-P